ENVIRONMENTAL PROTECTION AGENCY

40 CFR Part 180

[OPP-2005-0240; FRL-7737-5]

Pesticides; Revisions to Tolerance Exemptions for Polymers

AGENCY: Environmental Protection Agency (EPA).

ACTION: Proposed rule.

SUMMARY: EPA is proposing to remove the molecular weight limitations from the tolerance exemption expression for certain polymeric substances codified in 40 CFR 180.960. These exemptions from the requirement of a tolerance were established based on the polymer's meeting the criteria established by the Agency in 40 CFR 723.250, which define a low risk polymer. The Agency is acting on its own initiative.

DATES: Comments must be received on or before February 6, 2006.

ADDRESSES: Submit your comments, identified by docket identification (ID) number OPP-2005-0240, by one of the following methods:

• Federal eRulemaking Portal: http://www.regulations.gov/. Follow the on-line instructions for submitting comments.

• Agency Website: EDOCKET, EPA's electronic public and comment system was replaced on November 25, 2005, by an enhanced federal-wide electronic docket management and comment system located at http://www.regulations.gov/. Follow the on-line instructions.

• E-mail: Comments may be sent by e-mail to: opp-docket@epa.gov, Attention: Docket ID Number OPP-2005-0240.

• Mail: Public Information and Records Integrity Branch (PIRIB) (7502C), Office of Pesticide Programs (OPP), Environmental Protection Agency, 1200 Pennsylvania Ave., NW., Washington, DC 20460-0001, Attention: Docket ID Number OPP-2005-0240.

• Hand delivery: Public Information and Records Integrity Branch (PIRIB), Office of Pesticide Programs (OPP), Environmental Protection Agency, Rm. 119, Crystal Mall #2, 1801 S. Bell St., Arlington, VA, Attention: Docket ID Number OPP-2005-0240. Such deliveries are only accepted during the Docket's normal hours of operation, and special arrangements should be made for deliveries of boxed information.

Instructions: Direct your comments to docket ID number OPP-2005-0240. EPA's policy is that all comments received will be included in the public docket without change and may be made available online at http://www.regulations.gov/, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.html.

Docket: All documents in the docket are listed in the www.regulations.gov index. Although listed in the index, some information is not publicly available, i.e., CBI or other information whose disclosure is restricted by statute. Certain other material, such as copyrighted material, will be publicly available only in hard copy form. Publicly available docket materials are available either electronically in www.regulations.gov or hard copy at the Public Information and Records Integrity Branch (PIRIB), Rm. 119, Crystal Mall #2, 1801 S. Bell St., Arlington, VA. This Docket Facility is open from 8:30 a.m. to 4 p.m., Monday through Friday, excluding legal holidays. The Docket telephone number is (703) 305-5805.

FOR FURTHER INFORMATION CONTACT: Kathryn Boyle, Registration Division (7505C), Office of Pesticide Programs, Environmental Protection Agency, 1200 Pennsylvania Ave., NW., Washington, DC 20460-0001; telephone number: (703) 305-6304; fax number: (703) 305-0599; e-mail address: boyle.kathryn@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111)

• Animal production (NAICS code 112)

• Food manufacturing (NAICS code 311)

• Pesticide manufacturing (NAICS code 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Access Electronic Copies of this Document and Other Related Information?

In addition to using regulations.gov, you may access this Federal Register document electronically through the EPA Internet under the “Federal Register” listings at http://www.epa.gov/fedrgstr/. A frequently updated electronic version of 40 CFR part 180 is available at E-CFR Beta Site Two at http://www.gpoaccess.gov/ecfr/.

C. What Should I Consider as I Prepare My Comments for EPA?

1. Submitting CBI. Do not submit this information to EPA through www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the rulemaking by docket number and other identifying information (subject heading, Federal Register date, and page number).

ii. Follow directions. The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

II. Background

A. What is the Agency's Authority for Taking this Action?

The rule proposed here would be issued pursuant to section 408(e) of the Federal Food, Drug, and Comestic Act (FFDCA), as amended by FQPA (21 U.S.C. 346a(e)). Section 408 of FFDCA authorizes the establishment of tolerances, exemptions from the requirement of a tolerance, modifications in tolerances, and revocation of tolerances for residues of pesticide chemicals in or on raw agricultural commodities and processed foods. Without a tolerance or tolerance exemption, food containing pesticide residues is considered to be unsafe and therefore “adulterated” under section 402(a) of FFDCA. If food containing pesticide residues is found to be adulterated, the food may not be distributed in interstate commerce (21 U.S.C. 331(a) and 342 (a)).

B. What Action is the Agency Taking?

In the Federal Register of May 24, 2002, (67 FR 36525) (FRL-6834-2), EPA issued a direct final rule to add a new section to part 180, subpart D. This section now lists the pesticide chemicals that are polymers subject to exemptions from tolerance requirements, based upon the criteria in 40 CFR 723.250 that identify a low-risk polymer. Under the Toxic Substances Control Act (TSCA), polymers meeting the criteria of 40 CFR 723.250 are exempt from certain of the premanufacture notice requirements. The Office of Pesticide Programs has used these same criteria to create a stream-lined process for establishing a tolerance exemption for a polymeric substance meeting these criteria. In essence, a manufacturer by filing a petition for an exemption from the requirement of a tolerance (which includes the notice of filing) with the Agency's Office of Pesticide Programs is verifying their exemption under section 5(a)(1)(A) of TSCA. In a similar manner, a manufacturer who petitions the Agency for tolerance exemption status by stating that their polymer is described by the chemical nomenclature of a polymer exempted under 40 CFR 180.960 is verifying their exemption under 5(a)(1)(A) of TSCA.

Many of the polymers that were transferred from other sections of the CFR to this new section contained limitations on the molecular weight, usually expressed in a manner similar to the following, “minimum number average molecular weight (in amu),” as part of their nomenclature. At the time that these exemptions were established (pre-May 2002) including such a limitation assured that polymeric substances that were described by the chemical nomenclature but were of lower molecular weight were not considered to be exempt from the requirement of a tolerance. At the time of the transfer to 40 CFR 180.960, this nomenclature was maintained.

The molecular weight criteria that define a low risk polymer are specified in 40 CFR 723.250(e), and are not limited to the particular molecular weights currently specified in 40 CFR 180.960. In promulgating 40 CFR 180.960, EPA incorporated the criteria of 40 CFR 723.250(e) as a requirement for all polymer exemptions. Because 40 CFR 180.960 through its incorporation of 40 CFR 723.250(e) now imposes a minimum molecular weight to assure safety, chemical-specific limitations are not needed in 40 CFR 180.960, and EPA proposes to modify the tolerance exemptions accordingly.

III. Statutory and Executive Order Reviews

This proposed rule removes the chemical-specific molecular weight limitations codified in the tolerance exemption expressions in 40 CFR 180.960. Since removal of these chemical-specific molecular weight limitations does not impose any new requirements, it is not subject to review by the Office of Management and Budget (OMB) under Executive Order 12866, entitled Regulatory Planning and Review (58 FR 51735, October 4, 1993). Because this proposed rule is not subject to review under Executive Order 12866, this proposed rule is not subject to Executive Order 13211, Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Under the requirements of the Regulatory Flexibility Act (RFA) (5 U.S.C. 601 et seq.), the Agency hereby certifies that this proposed action will not have significant negative economic impact on a substantial number of small entities. In addition, the Agency has determined that this action will not have a substantial direct effect on States, on the relationship between the national government and the States, or on the distribution of power and responsibilities among the various levels of government, as specified in Executive Order 13132, entitled Federalism(64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This proposed rule directly regulates growers, food processors, food handlers and food retailers, not States. This action does not alter the relationships or distribution of power and responsibilities established by Congress in the preemption provisions of section 408(n)(4) of the FFDCA. For these same reasons, the Agency has determined that this proposed rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: November 18, 2005.
Lois Rossi,
Director, Registration Division, Office of Pesticide Programs.

Therefore, it is proposed that 40 CFR chapter I be amended as follows:

PART 180—[AMENDED]

1. The authority citation for part 180 continues to read as follows:

Authority: 21 U.S.C. 321(q), 346a and 371.

2. Section 180.960 is revised to read as follows:

§ 180.960 Polymers; exemptions from the requirement of a tolerance.

Residues resulting from the use of the following substances, that meet the definition of a polymer and the criteria specified for defining a low-risk polymer in 40 CFR 723.250 (which includes the requirement for a number average molecular weight greater than or equal to 1000 amu), as an inert ingredient in a pesticide chemical formulation, including antimicrobial pesticide chemical formulations, are exempted from the requirement of a tolerance under FFDCA section 408, if such use is in accordance with good agricultural or manufacturing practices.

Polymer | CAS No.
Acetic acid ethenyl ester, polymer with ethenol and (alpha)-2-propenyl-(omega)-hydroxypoly(oxy-1,2-ethanediyl) | 137091-12-4
Acrylic acid, polymerized, and its ethyl and methyl esters | None
Acrylic acid-sodium acrylate-sodium-2-methylpropanesulfonate copolymer | 97953-25-8
Acrylic acid-stearyl methacrylate copolymer | 27756-15-6
Acrylic acid, styrene, alpha-methyl styrene copolymer, ammonium salt | 89678-90-0
Acrylic acid terpolymer, partial sodium salt | 151006-66-5
Acrylic polymers composed of one or more of the following monomers: Acrylic acid, methyl acrylate, ethyl acrylate, butyl acrylate, hydroxyethyl acrylate, hydroxypropyl acrylate, hydroxybutyl acrylate, carboxyethyl acrylate, methacrylic acid, methyl methacrylate, ethyl methacrylate, butyl methacrylate, isobutyl methacrylate, hydroxyethyl methacrylate, hydroxypropyl methacrylate, hydroxybutyl methacrylate, lauryl methacrylate, and stearyl methacrylate; with none and/or one or more of the following monomers: Acrylamide, N-methyl acrylamide, N,N-dimethyl acrylamide, N-octylacrylamide, maleic anhydride, maleic acid, monoethyl maleate, diethyl maleate, monooctyl maleate, dioctyl maleate; and their corresponding sodium, potassium, ammonium, isopropylamine, triethylamine, monoethanolamine, and/or triethanolamine salts | None
Acrylonitrile-butadiene copolymer conforming to 21 CFR 180.22 | 9003-18-3
Acrylonitrile-styrene-hydroxypropyl methacrylate copolymer | None
Alpha-alkyl C12-C15)-ω- hydroxypoly(oxypropylene)poly(oxyethylene)copolymers (where the poly(oxypropylene) content is 3-60 moles and the poly(oxyethylene) content is 5-80 moles) | 68551-13-3
Alkyl (C12-C20) methacrylate-methacrylic acid copolymer | None
1,3 Benzene dicarboxylic acid, 5-sulfo-,1,3-dimethyl ester, sodium salt, polymer with 1,3-benzene dicarboxylic acid, 1,4-benzene dicarboxylic acid, dimethyl 1,4-benzene dicarboxylate and 1,2-ethanediol | 212842-88-1
3,5-Bis(6-isocyanatohexyl)-2H-1,3,5-oxadiazine-2,4,6-(3H,5H)-trione, polymer with diethylenetriamine | 87823-33-4
Butadiene-styrene copolymer | None
1,4-Butanediol-methylenebis(4-phenylisocyanate)-poly(tetramethylene glycol) copolymer | 9018-04-6
Butene, homopolymer | 9003-29-6
2-Butenedioic acid (Z)-, polymer with ethenol and ethenyl acetate, sodium salt | 139871-83-3
Butyl acrylate-vinyl acetate-acrylic acid copolymer | 65405-40-5
α-Butyl-omega-hydroxypoly(oxypropylene) block polymer with poly(oxyethylene) | None
Castor oil, polyoxyethylated; the poly(oxyethylene) content averages 5-54 moles | None
Chlorinated polyethylene | 64754-90-1
Cross-linked nylon-type polymer formed by the reaction of a mixture of sebacoyl chloride and polymethylene polyphenylisocycanate with a mixture of ethylenediamine and diethylenetriamine | None
Cross-linked polyurea-type encapsulating polymer | None
Dimethylpolysiloxane | 63148-62-9
Dimethyl silicone polymer with silica | 67762-90-7
Docosyl methacrylate-acrylic acid copolymer, or docosyl methacrylate-octadecyl methacrylate-acrylic acid copolymer | None
1,12-Dodecanediol dimethacrylate polymer | None
1, 2-Ethanediamine, polymer with methyl oxirane and oxirane | 26316-40-5
Ethylene glycol dimethyacrylate-lauryl methacrylate copolymer | None
Ethylene glycol dimethacrylate polymer | None
Formaldehyde, polymer with α-[bis(1-phenylethyl)phenyl]- -hydroxypoly(oxy-1,2-e thanediyl) | 157291-93-5
Fumaric acid-isophthalic acid-styrene-ethylene/propylene glycol copolymer | None
Hexadecyl acrylate-acrylic acid copolymer, hexadecyl acrylate-butyl acrylate-acrylic acid copolymer, or hexadecyl acrylate-dodecyl acrylate-acrylic acid copolymer | None
Hexamethyl disilizane, reaction product with silica | 68909-20-6
1,6-Hexanediol dimethyacrylate polymer | None
α-Hydro-omega-hydroxy-poly(oxyethylene) C8 alkyl ether citrates, poly(oxyethylene) content is 4-12 moles | 330977-00-9
α-Hydro-omega-hydroxy-poly(oxyethylene) C10-C16-alkyl ether citrates, poly(oxyethylene) content is 4-12 moles | 330985-58-5
α-Hydro-omega-hydroxy-poly(oxyethylene) C16-C18-alkyl ether citrates, poly(oxyethylene) content is 4-12 moles | 330985-61-0
α-Hydro-omega-hydroxypoly(oxyethylene) | None
α-Hydro-omega-hydroxypoly(oxyethylene)poly (oxypropylene) poly(oxyethylene) block copolymer; the minimum poly(oxypropylene) content is 27 moles | None
α-Hydro-omega-hydroxypoly(oxypropylene) | None
12-Hydroxystearic acid-polyethylene glycol copolymer | 70142-34-6
Isodecyl alcohol ethoxylated (2-8 moles) polymer with chloromethyl oxirane | None
Lauryl methacrylate-1,6-hexanediol dimethacrylate copolymer | None
Maleic acid-butadiene copolymer | None
Maleic acid monobutyl ester-vinyl methyl ether copolymer | 25119-68-0
Maleic acid monoethyl ester-vinyl methyl ether copolymer | 2508706-3
Maleic acid monoisopropyl ester-vinyl methyl ether copolymer | 31307-95-6
Maleic anhydride-diisobutylene copolymer, sodium salt | 37199-81-8
Maleic anhydride-methylstyrene copolymer sodium salt | 60092-15-1
Maleic anhydride-methyl vinyl ether, copolymer | None
Methacrylic acid-methyl methacrylate-polyethylene glycol methyl ether methacrylate copolymer | 100934-04-1
Methacrylic copolymer | 63150-03-8
Methyl methacrylate-methacrylic acid-monomethoxypolyethylene glycol methacrylate copolymer | 119724-54-8
Methyl methacrylate-2-sulfoethyl methacrylate-dimethylaminoethylmethacrylate-glycidyl methacrylate-styrene-2-ethylhexyl acrylate graft copolymer | None
Methyl vinyl ether-maleic acid copolymer | 25153-40-6
Methyl vinyl ether-maleic acid copolymer, calcium sodium salt | 62386-95-2
Monophosphate ester of the block copolymer alpha-hydro-omega-hydroxypoly(oxyethylene) poly(oxypropylene) poly(oxyethylene); the poly(oxypropylene) content averages 37-41 moles | None
α-(p-Nonylphenyl-omega-hydroxypoly(oxypropylene) block polymer with poly(oxyethylene); polyoxypropylene content of 10-60 moles; polyoxyethylene content of 10-80 moles | None
α-(p-Nonylphenyl)poly(oxypropylene) block polymer with poly(oxyethylene); poly oxyethylene content 30 to 90 moles | None
Octadecanoic acid, 12-hydroxy-, homopolymer, octadecanoate | 58128-22-6
α-cis-9-Octadecenyl-omega-hydroxypoly(oxyethylene); the octadecenyl group is derived from oleyl alcohol and the poly(oxyethylene) content averages 20 moles | None
Octadecyl acrylate-acrylic acid copolymer, octadecyl acrylate-dodecyl acrylate-acrylic acid copolymer, octadecyl methacrylate-butyl acrylate-acrylic acid copolymer, octadecyl methacrylate-hexyl acrylate-acrylic acid copolymer, octadecyl methacrylate-dodecyl acrylate-acrylic acid copolymer, or octadecyl methacrylate-dodecyl methacrylate-acrylic acid copolymer | None
Oleic acid diester of alpha-hydro-omega-hydroxypoly(oxyethylene); the poly(oxyethylene) | None
Oxirane, methyl-, polymer with oxirane, mono [2-(2-butoxyethoxy) ethyl] ether | 85637-75-8
Polyamide polymer derived from sebacic acid, vegetable oil acids with or without dimerization, terephthalic acid and/or ethylenediamine | None
Polyethylene glycol-polyisobutenyl anhydride-tall oil fatty acid copolymer | 68650-28-2
Polyethylene, oxidized | None
Polymethylene polyphenylisocyanate, polymer with ethylene diamine, diethylene triamine and sebacoyl chloride, cross-linked | None
Polyoxyethylated primary amine (C14-C18); the fatty amine is derived from an animal source and contains 3% water; the poly(oxyethylene) content averages 20 moles | None
Polyoxyethylated sorbitol fatty acid esters; the polyoxyethylated sorbitol solution containing 15% water is reacted with fatty acids limited to C12, C14, C16, and C18, containing minor amounts of associated fatty acids; the poly(oxyethylene) content averages 30 moles. | None
Polyoxyethylated sorbitol fatty acid esters; the sorbitol solution containing up to 15% water is reacted with 20-50 moles of ethylene oxide and aliphatic alkanoic and/or alkenoic fatty acids C8 through C22 with minor amounts of associated fatty acids | None
Poly(oxyethylene/oxypropylene) monoalkyl (C6-C10) ether sodium fumarate adduct | 102900-02-7
Polyoxymethylene copolymer | None
Poly(oxypropylene) block polymer with poly(oxyethylene) | None
Poly(phenylhexylurea), cross-linked | None
Polypropylene | 9003-07-0
Polystyrene | 9003-53-6
Polytetrafluoroethylene | 9002-84-0
Polyvinyl acetate, copolymer with maleic anhydride, partially hydrolyzed, sodium salt | None
Polyvinylpyrrolidone butylated polymer | 26160-96-3
Polyvinyl acetate | None
Polyvinyl acetate--polyvinyl alcohol copolymer | 25213-24-5
Polyvinyl alcohol | 9002-89-5
Polyvinyl chloride | None
Polyvinyl chloride | 9002-86-2
Poly(vinylpyrrolidone) | 9003-39-8
Poly(vinylpyrrolidone-1-eicosene) | 28211-18-9
Poly(vinylpyrrolidone-1-hexadecene) | 63231-81-2
2-Propene-1-sulfonic acid sodium salt, polymer with ethenol and ethenyl acetate, | None
2-Propenoic acid, polymer with 2-propenamide, sodium salt | 25085-02-3
2-Propenoic acid, sodium salt, polymer with 2-propenamide | 25987-30-8
Silane, dichloromethyl-reaction product with silica | 68611-44-9
Sodium polyflavinoidsulfonate, consisting chiefly of the copolymer of catechin and leucocyanidin | None
Stearyl methacrylate-1,6-hexanediol dimethacrylate copolymer | None
Styrene, copolymers with acrylic acid and/or methacrylic acid, with none and/or one or more of the following monomers: Acrylamidopropyl methyl sulfonic acid, methallyl sulfonic acid, 3-sulfopropyl acrylate, 3-sulfopropyl methacrylate, hydroxypropyl methacrylate, hydroxypropyl acrylate, hydroxyethyl methacrylate, and/or hydroxyethyl acrylate; and its sodium, potassium, ammonium, monoethanolamine, and triethanolamine salts | None
Styrene, 2-ethylhexyl acrylate, butyl acrylate copolymer | 30795-23-4
Styrene-2-ethylhexyl acrylate-glycidyl methacrylate-2-acrylamido-2-methylpropanesulfonic acid graft copolymer | None
Styrene-maleic anhydride copolymer | None
Styrene-maleic anhydride copolymer, ester derivative | None
Tetradecyl acrylate-acrylic acid copolymer | None
Tetraethoxysilane, polymer with hexamethyldisiloxane | 104133-09-7
α-[p-(1,1,3,3-Tetramethylbutyl)phenyl] poly(oxypropylene) block polymer with poly(oxyethylene); the poly(oxypropylene) content averages 25 moles, the poly(oxyethylene) content averages 40 moles | None
α-[2,4,6-Tris[1-(phenyl)ethyl]phenyl]-omega-hydroxy poly(oxyethylene) poly(oxypropylene) copolymer, the poly(oxypropylene) content averages 2-8 moles, the poly(oxyethylene) content averages 16-30 moles | None
Urea-formaldehyde copolymer | 9011-05-6
Vinyl acetate-allyl acetate-monomethyl maleate copolymer | None
Vinyl acetate-ethylene copolymer | 24937-78-8
Vinyl acetate polymer with none and/or one or more of the following monomers: Ethylene, propylene, N-methyl acrylamide, acrylamide, monoethyl maleate, diethyl maleate, monooctyl maleate, dioctyl maleate, maleic anhydride, maleic acid, octyl acrylate, butyl acrylate, ethyl acrylate, methyl acrylate, acrylic acid, octyl methacrylate, butyl methacrylate, ethyl methacrylate, methyl methacrylate, methacrylic acid, carboxyethyl acrylate, and diallyl phthalate; and their corresponding sodium, potassium, ammonium, isopropylamine, triethylamine, monoethanolamine and/or triethanolamine salts | None
Vinyl acetate-vinyl alcohol-alkyl lactone copolymer | None
Vinyl alcohol-disodium itaconate copolymer | None
Vinyl alcohol-vinyl acetate copolymer, benzaldehyde-o-sodium sulfonate condensate | None
Vinyl alcohol-vinyl acetate-monomethyl maleate, sodium salt-maleic acid, disodium salt-gamma-butyrolactone acetic acid, sodium salt copolymer | None
Vinyl chloride-vinyl acetate copolymers | None
Vinyl pyrrolidone-acrylic acid copolymer | 28062-44-4
Vinyl pyrrolidone-dimethylaminoethylmethacrylate copolymer | 30581-59-0
Vinyl pyrrolidone-styrene copolymer | 25086-29-7

[FR Doc. 05-23667 Filed 12-6-05; 8:45 am]

BILLING CODE 6560-50-S